SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

Effective immediately, the membership of the PRB and ERB is as follows:

Performance Review Board

William Brennan, Chairman

Rachel Campbell, Member

Craig M. Keats, Member

Mai Dinh, Alternate Member

Executive Resources Board

Rachel Campbell, Chairman

William Brennan, Member

Craig M. Keats, Member

Mai Dinh, Alternate Member

FOR FURTHER INFORMATION CONTACT: If you have any questions, please contact Jennifer Layne at jennifer.layne@stb.gov or 202-245-0340.

Jeffrey Herzig,
Clearance Clerk.

[FR Doc. 2022-16433 Filed 7-29-22; 8:45 am]

BILLING CODE 4915-01-P